DEPARTMENT OF DEFENSE

Office of the Secretary

32 CFR Part 199

Civilian Health and Medical Program of the Uniformed Services (CHAMPUS); TRICARE Prime Enrollment

AGENCY: Office of the Secretary, DOD.

ACTION: Interim final rule.

SUMMARY: This interim final rule provides for automatic enrollment of certain family members of E-4 and below in TRICARE Prime. When affected family members reside in a catchment area of a military medical treatment facility offering TRICARE Prime, the family members will be automatically enrolled in TRICARE Prime and will choose or be assigned a Primary Care Manager located in the military medical treatment facility. Such automatic enrollment may be terminated at any time.

DATES: This rule is effective July 28, 2000. Public comments must be received by August 28, 2000.

ADDRESSES: TRICARE Management Activity (TMA), Program Development Branch, Aurora, CO 80045-6900.

FOR FURTHER INFORMATION CONTACT: Lt Col Kathleen Larkin, Office of the Assistant Secretary of Defense (Health Affairs)/TRICARE Management Activity, telephone (703) 681-3628.

Questions regarding payment of specific claims under the CHAMPUS allowable charge method should be addressed to the appropriate TRICARE/CHAMPUS contractor.

SUPPLEMENTARY INFORMATION:

I. Overview of the Rule

This interim final rule implements section 712 of the National Defense Authorization Act for Fiscal Year 1999 which modified chapter 55 of title 10, United States Code by adding a new section 1079a which provides for automatic TRICARE Prime enrollment for active duty families of E-4 and below in certain circumstances. Owing to the small number of family members of E-4 and below who are not already enrolled in TRICARE Prime, and the restrictive nature of TRICARE Prime enrollment, military medical treatment facility commanders will identify those individuals residing in their catchment area who should be automatically enrolled but are not. At that time, the family members will be informed of their enrollment and be given the opportunity to select or be assigned a primary care manager, or to disenroll from TRICARE Prime. The choice of whether to remain enrolled in TRICARE Prime, or to decline enrollment to participate in TRICARE Extra or Standard remains completely voluntary.

II. Rulemaking Procedures

Executive Order 12866 requires certain regulatory assessments for any significant regulatory action, defined as one which would result in an annual effect on the economy of $100 million or more, or have other substantial impacts.

The Regulatory Flexibility Act (RFA) requires that each Federal agency prepare, and make available for public comment, a regulatory flexibility analysis when the agency issues a regulation which would have a significant impact on a substantial number of small entities.

This is not a significant regulatory action under the provisions of Executive Order 12866, and it would not have a significant impact on a substantial number of small entities.

The interim final rule will not impose additional information collection requirements on the public under the Paperwork Reduction Act of 1995 (44 U.S.C. Chapter 55).

This rule is being issued as an interim final rule, with comment period, as an exception to our standard practice of soliciting public comments prior to issuance. The Assistant Secretary of Defense (Health Affairs) has determined that following the standard practice in this case would be impracticable, unnecessary, and contrary to the public interest. This determination is based on several factors. First, this change directly implements a statutory amendment enacted by Congress expressly for this purpose. Second, for the most part this rule simply implements the unambiguous Congressional policy of automatically enrolling family members of active duty members of E-4 and below who reside in areas where TRICARE Prime is offered through a military medical treatment facility. Third, TRICARE Prime is a major “quality of life” program of the Department of Defense. Its success is of great importance to maintaining adequate retention rates of military personnel and, thus, the conduct of the military affairs function of the United States. Public comments are invited. All comments will be carefully considered. A discussion of the major issues received by public comments will be included with the issuance of the permanent final rule, anticipated approximately 60 days after the end of the comment period.

List of Subjects in 32 CFR Part 199

Administrative practice and procedure, Claims, Health care, Health insurance, Individuals with disabilities, Military personnel.

Accordingly, 32 CFR part 199 is amended as follows:

PART 199—[AMENDED]

1. The authority citation for Part 199 continues to read as follows:

Authority: 5 U.S.C. 301; 10 U.S.C. chapter 55.

2. Section 199.17 is amended as follows:

a. Revising paragraph (a)(6)(ii)(A),

b. Adding a new paragraph (b)(3),

c. Revising paragraphs (c)(2)(i) and (n)(1), and

d. Adding a new paragraph (o)(7).

The revisions and additions read as follows:

§ 199.17 TRICARE Program.

(a) * * *

(6) * * *

(ii) * * *

(A) Beneficiaries may enroll, or be enrolled, in the “TRICARE Prime Plan,” which features use of military treatment facilities and substantially reduced out-of-pocket costs for CHAMPUS care. Beneficiaries generally agree to use military treatment facilities and designated civilian provider networks, in accordance with enrollment provisions.

* * * * *

(b) * * *

(3) Automatic enrollment of certain dependents. Under 10 U.S.C. 1079a, in the case of dependents of active duty members in the grade of E-1 to E-4, such dependents who reside in catchment areas of military hospitals shall be automatically enrolled in TRICARE Prime consistent with procedures established under paragraph (o)(7) of this section. Voluntary choice shall be preserved by the right of such dependents to disenroll at any time.

* * * * *

(c) * * *

(2) * * *

(i) In the case of dependents of active duty members in the grade of E-1 to E-4, such dependents who reside in catchment areas of military hospitals will be automatically enrolled in TRICARE Prime consistent with procedures established under paragraph (o)(7) of this section. Other dependents of active duty members are eligible to enroll in Prime. After all active duty members, and those dependents automatically enrolled, all other dependents of active duty members will have second priority for enrollment .

* * * * *

(n) * * *

(1) Primary care manager. All active duty members and Prime enrollees will be assigned or allowed to select a primary care manager pursuant to a system established by the MTF Commander or other authorized official. Active duty members and dependents of E-4 and below who are automatically enrolled in TRICARE Prime shall choose or be assigned a primary care manager who is part of the MTF. The primary care manager may be an individual physician, a group practice, a clinic, a treatment site, or other designation. For those who are not automatically enrolled in Prime, the primary care manager may be part of the MTF or the Prime civilian network. The enrollee will be given the opportunity to register a preference for primary care manager from a list of choices provided by the MTF commander. Preference requests will be honored subject to availability, under the MTF beneficiary category priority system and other operational requirements established by the commander or other authorized person).

* * * * *

(o) * * *

(6) Special procedures for certain dependents of active duty members in pay grades E-1 to E-4. As an exception to other procedures in paragraph (o) of this section, dependents of active duty members in pay grades E-1 to E-4, if such dependents reside in a catchment area of a military hospital, are automatically enrolled in TRICARE Prime. The applicable military hospital shall provide written notice of the automatic enrollment to the member and the affected dependents. The effective date of such automatic enrollment shall be the date of the written notice, unless an earlier effective date is requested by the member or affected dependents, so long as the affected dependents were as of the effective date dependents of an active duty member in pay grades E-1 to E-4 and residents in a catchment area of a military hospital. Dependents who are automatically enrolled under this paragraph may disenroll at any time. Such disenrollment shall remain in effect until such dependents take specific action to reenroll which such dependents may do at any time.

* * * * *

Dated: June 22, 2000.
L. M. Bynum,
Alternate Federal Register Notice Liaison Officer, Department of Defense.

[FR Doc. 00-16263 Filed 6-27-00; 8:45 am]

BILLING CODE 5001-10-P